INTERNATIONAL TRADE COMMISSION

[Investigation Nos. 731 TA 340-E and 340-H (Third Review)]

Solid Urea From Russia and Ukraine

Determination

On the basis of the record ¹ developed in the subject five-year reviews, the United States International Trade Commission (Commission) determines, pursuant to section 751(c) of the Tariff Act of 1930 (19 U.S.C. 1675(c)), that revocation of the antidumping duty orders on solid urea from Russia and Ukraine would be likely to lead to continuation or recurrence of material injury to an industry in the United States within a reasonably foreseeable time.²

¹ The record is defined in sec. 207.2(f) of the Commission's Rules of Practice and Procedure (19 CFR 207.2(f)).

² Chairman Deanna Tanner Okun and Commissioner Daniel R. Pearson dissenting.

Background

The Commission instituted these reviews on December 1, 2010 (75 FR 74746) and determined on March 7, 2011 that it would conduct full reviews (76 FR 15339, March 21, 2011). Notice of the scheduling of the Commission's reviews and of a public hearing to be held in connection therewith was given by posting copies of the notice in the Office of the Secretary, U.S. International Trade Commission, Washington, DC, and by publishing the notice in the Federal Register on April 28, 2011 (76 FR 23835). The hearing was held in Washington, DC, on October 4, 2011, and all persons who requested the opportunity were permitted to appear in person or by counsel.

The Commission transmitted its determinations in these reviews to the Secretary of Commerce on December 5, 2011. The views of the Commission are contained in USITC Publication 4279 (December 2011), entitled Solid Urea from Russia and Ukraine: Investigation Nos. 731-TA-340-E and 340-H (Third Review).

By order of the Commission.
Issued: December 5, 2011.
James R. Holbein,
Secretary to the Commission.

[FR Doc. 2011-31596 Filed 12-8-11; 8:45 am]

BILLING CODE 7020-02-P